POSTAL SERVICE

International Product Change—Canada Post—United States Postal Service Contractual Bilateral Agreement for Inbound Competitive Services

AGENCY: Postal Service™.

ACTION: Notice.

SUMMARY: The Postal Service gives notice of its intent to file a request with the Postal Regulatory Commission to add the Canada Post—United States Postal Service Contractual Bilateral Agreement for Inbound Competitive Services to the Competitive Products List pursuant to 39 U.S.C. 3642.

DATES: November 17, 2008.

FOR FURTHER INFORMATION CONTACT: Margaret M. Falwell, 703-292-3576.

SUPPLEMENTARY INFORMATION: The United States Postal Service® hereby gives notice that it intends to file with the Postal Regulatory Commission, on or about November 14, 2008, a Request of United States Postal Service to Add Canada Post—United States Postal Service Contractual Bilateral Agreement for Inbound Competitive Services to the Competitive Product List, and Notice of Filing (Under Seal) the Enabling Governors' Decision and Agreement. Documents are or will be available on the Postal Regulatory Commission's Web site, http://www.prc.gov.

Neva R. Watson,
Attorney, Legislative.

[FR Doc. E8-27156 Filed 11-14-08; 8:45 am]

BILLING CODE 7710-12-P